DEPARTMENT OF THE INTERIOR

National Park Service

[NPS-PWR-REDW-34432; PS.SPPWLA0054.00.1]

Minor Boundary Revision at Redwood National Park

AGENCY: National Park Service, Interior.

ACTION: Notification of boundary revision.

SUMMARY: The boundary of Redwood National Park is revised to include four parcels of land totaling 91.6 acres, more or less, located in Humboldt County, California, immediately adjoining the boundaries of Redwood National Park.

DATES: The effective date of this boundary revision is July 18, 2023.

ADDRESSES: The map depicting the above-referenced modification is on file and available for viewing at the following locations: Redwood National Park, 1111 Second Street, Crescent City, CA 95531; National Park Service, Interior Regions 8, 9, 10, and 12, Pacific West Land Resources Program Center, 333 Bush Street, Suite 500, San Francisco, CA 94104; and National Park Service, Department of the Interior, 1849 C Street NW, Washington, DC 20240.

FOR FURTHER INFORMATION CONTACT: Realty Officer Truda Stella, National Park Service, Pacific West Land Resources Program Center, Pacific West Region, 333 Bush Street, San Francisco, California; telephone (206) 561-7978.

SUPPLEMENTARY INFORMATION: Notice is hereby given that, pursuant to 16 U.S.C. 79b, the boundary of Redwood National Park is modified to include four adjoining tracts containing 91.6 acres of land. The boundary revision is depicted on Map No. REDW 167 180370, dated June 2022.

16 U.S.C. 79b authorizes the Secretary of the Interior to modify the Park boundary for carrying out the purposes of the Park by publication of a revised drawing or boundary description in the Federal Register and by filing said revision with appropriate county officials for Del Norte and Humboldt Counties, California. The appropriate officials have been notified. This boundary revision and subsequent acquisition will provide habitat benefit and recreational opportunities consistent with the purposes of the Park. Subsequent to publication of this notice, the National Park Service will acquire the properties from Save the Redwoods League, a nonprofit organization.

William Shott,
Acting Regional Director, National Park Service, Interior Regions 8, 9, 10 &12.

[FR Doc. 2023-15122 Filed 7-17-23; 8:45 am]

BILLING CODE 4312-52-P